FEDERAL MARITIME COMMISSION

Notice of Agreements Filed

The Commission hereby gives notice of filing of the following agreements under the Shipping Act of 1984. Interested parties may submit comments, relevant information, or documents regarding the agreements to the Secretary by email at Secretary@fmc.gov, or by mail, Federal Maritime Commission, 800 North Capitol Street, Washington, DC 20573. Comments will be most helpful to the Commission if received within 12 days of the date this notice appears in the Federal Register, and the Commission requests that comments be submitted within 7 days on agreements that request expedited review. Copies of agreements are available through the Commission's website (www.fmc.gov) or by contacting the Office of Agreements at (202) 523-5793 or tradeanalysis@fmc.gov.

Agreement No.: 201421.

Agreement Name: Agency Agreement.

Parties: Arkas Container Transport SA; Turkon Container Transportation & Shipping, Inc.

Filing Party: Wayne Rohde; Cozen O'Connor.

Synopsis: The Agreement authorizes Turkon America Inc. to acts as the U.S. agent of Arkas Container Transport S.A. (“Arkas”) with respect to Arkas' services in the trades between the U.S. Atlantic Coast on the one hand and countries bordering the Black and Mediterranean Seas, Western Europe, Northern Europe, and West and North Africa. The parties have requested expedited review.

Proposed Effective Date: 04/15/2024.

Location: https://www2.fmc.gov/FMC.Agreements.Web/Public/AgreementHistory/86551.

Agreement No.: 012426-007.

Agreement Name: The OCEAN Alliance Agreement.

Parties: American President Lines, LLC; APL CO. PTE. LTD; CMA CGM S.A.; COSCO Shipping Lines Co., Ltd; Evergreen Line Joint Service Agreement; OOCL (Europe) Limited; Orient Overseas Container Line Limited.

Filing Party: Robert Magovern; Cozen O'Connor.

Synopsis: This Amendment revises Article 7 to extend the term of the Agreement through March 31, 2032.

Proposed Effective Date: 04/15/2024.

Location: https://www2.fmc.gov/FMC.Agreements.Web/Public/AgreementHistory/1214.

Dated: March 6, 2024.
Alanna Beck,
Federal Register Alternate Liaison Officer.

[FR Doc. 2024-05144 Filed 3-11-24; 8:45 am]

BILLING CODE 6730-02-P